LIBRARY OF CONGRESS

Copyright Office

37 CFR Part 202

[Docket No. RM 2007-7]

Technical Amendments to online registration of claims to copyright; corrections

AGENCY: Copyright Office, Library of Congress

ACTION: Interim Regulations for online registration; correction.

SUMMARY: The Copyright Office published in the Federal Register on July 6, 2007, an interim regulation implementing an online copyright registration system. This document makes technical corrections to that interim regulation.

DATES: Effective on July 25, 2007.

FOR FURTHER INFORMATION CONTACT: Tanya Sandros, Acting General Counsel, or Nanette Petruzzelli, Special Legal Advisor to the Register for Reengineering, Copyright Office, Library of Congress, Washington, DC 20540. Telephone: (202) 707-8380. Telefax: (202) 707-8366.

SUPPLEMENTARY INFORMATION: The Copyright Office published an interim regulation in the Federal Register on July 6, 2007, which, for the purpose of implementing an online registration system, amended its regulations governing the procedures by which the public submits, and the Office processes, copyright registrations and recordations. This document makes non-substantial corrections to errors contained in the interim regulations.

List of Subjects in 37 CFR Part 202

Claims, Copyright, Registration requirements.

In consideration of the foregoing, the Copyright Office corrects part 202 of 37 CFR by making the following correcting amendments:

PART 202 -- REGISTRATION OF CLAIMS TO COPYRIGHT

1. The authority citation for part 202 continues to read as follows:

Authority: 17 U.S.C. 702.

2. Amend § 202.3 as follows:

a. By removing “(b)(3)” and adding “(b)(4)” in paragraph (b)(1)(iv);

b. By removing “(b)(3) through (b)(8)” and adding “(b)(4) through (b)(10)” in paragraph (b)(4)(ii);

c. By removing “(b)(7)” and adding “(b)(8)” in paragraph (b)(8)(ii);

d. By removing “(b)(7)(i)(E)” and adding “(b)(8)(i)(E)” in paragraph (b)(8)(ii)(C); and

e. By removing “(b)(9)(iv)” and adding “(b)(10)(iv)” in paragraph (b)(10)(vi); and

f. By adding the footnote designation “6” after “and § 202.20.” in paragraph (c)(2); and by adding footnote 6 to read as follows:

§ 202.3 Registration of copyright.

⁶In the case of applications for group registration of newspapers, contributions to periodicals, and newsletters, under paragraphs (b)(7), (b)(8), and (b)(9) of this section, the deposits shall comply with the deposits specified in the respective paragraphs, and the fees with those specified in § 201.3.

§ 202.20 [Amended]

3. Amend § 202.20 as follows:

a. By removing “(b)(2)(vi)” and adding “(b)(2)(vii)” in paragraph (b)(2)(i); and

b. By removing “(b)(2)(iii) through (vi)” and adding “(b)(2)(iv) through (vii)” in paragraph (b)(2)(ii).

Dated: July 20, 2007
Maria Pallante,
Deputy General Counsel

[FR Doc. E7-14372 Filed 7-24-07; 8:45 am]

BILLING CODE 1410-33-S